DEPARTMENT OF COMMERCE

Foreign-Trade Zones Board

[Order No. 2125]

Reorganization and Expansion of Foreign-Trade Zone 15 (Expansion of Service Area and New Magnet Site) Under Alternative Site Framework, Kansas City, Missouri

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the Greater Kansas City Foreign-Trade Zone, Inc., grantee of Foreign-Trade Zone 15, submitted an application to the Board (FTZ Docket B-63-2021, docketed September 14, 2021) for authority to expand the service area of the zone to include Holt County, as described in the application, and to include a new magnet site (proposed Site 24) in Holt County, adjacent to the Kansas City Customs and Border Protection port of entry;

Whereas, notice inviting public comment was given in the Federal Register (86 FR 52127, September 20, 2021) and the application has been processed pursuant to the FTZ Act and the Board's regulations; and,

Whereas, the Board adopts the findings and recommendations of the examiner's report, and finds that the requirements of the FTZ Act and the Board's regulations are satisfied;

Now, therefore, the Board hereby orders:

The application to reorganize FTZ 15 to expand the service area and to include a new magnet site under the ASF is approved, subject to the FTZ Act and the Board's regulations, including Section 400.13, to the Board's standard 2,000-acre activation limit for the zone, and to an ASF sunset provision for magnet sites that would terminate authority for Site 24 is not activated within the initial seven years from the month of approval.

Dated: March 26, 2022.
Lisa W. Wang,
Assistant Secretary for Enforcement and Compliance, Alternate Chairperson, Foreign-Trade Zones Board.

[FR Doc. 2022-06779 Filed 3-30-22; 8:45 am]

BILLING CODE 3510-DS-P